COMMITTEE FOR PURCHASE FROM PEOPLE WHO ARE BLIND OR SEVERELY DISABLED

Procurement List; Additions and Deletions

AGENCY: Committee for Purchase From People Who Are Blind or Severely Disabled.

ACTION: Additions to and Deletions from the Procurement List.

SUMMARY: This action adds products and service to the Procurement List that will be furnished by nonprofit agencies employing persons who are blind or have other severe disabilities, and deletes services from the Procurement List previously furnished by such agency(ies).

DATES: Effective Date: 7/31/2015.

ADDRESSES: Committee for Purchase From People Who Are Blind or Severely Disabled, 1401 S. Clark Street, Suite 715, Arlington, Virginia 22202-4149.

FOR FURTHER INFORMATION CONTACT: Barry S. Lineback, Telephone: (703) 603-7740, Fax: (703) 603-0655, or email CMTEFedReg@AbilityOne.gov.

SUPPLEMENTARY INFORMATION:

Additions

On 3/20/2015 (80 FR 14973) and 5/22/2015 (80 FR 29664), the Committee for Purchase From People Who Are Blind or Severely Disabled published notices of proposed additions to the Procurement List.

After consideration of the material presented to it concerning capability of qualified nonprofit agencies to provide the products and service, and impact of the additions on the current or most recent contractors, the Committee has determined that the products and service listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and service to the Government.

2. The action will result in authorizing small entities to furnish the products and service to the Government.

3. There are no known regulatory alternatives which would accomplish the objectives of the Javits-Wagner-O'Day Act (41 U.S.C. 8501-8506) in connection with the products and service proposed for addition to the Procurement List.

End of Certification

Accordingly, the following products and service are added to the Procurement List:

Products

Product Name/NSN(s): Bag, Insulated, Thermal, Reusable, MR 408—Small, MR 409—Large

Mandatory Purchase For: Requirements of military commissaries and exchanges as aggregated by the Defense Commissary Agency

Mandatory Source of Supply: Industries for the Blind, Inc., West Allis, WI

Contracting Activity: Defense Commissary Agency, Fort Lee, VA

Distribution: C-List

Service

Service Type: Base Operations Service

Service Is Mandatory For: US Army, US Army Garrison-Detroit Arsenal, 6501 East Eleven Mile Road, Warren, MI

Mandatory Source of Supply: Professional Contract Services, Inc., Austin, TX

Contracting Activity: Dept of the Army, W4GG HQ US Army TACOM, Warren, MI

Deletions

On 5/1/2015 (80 FR 24905-24906), the Committee for Purchase From People Who Are Blind or Severely Disabled published notice of proposed deletions from the Procurement List.

After consideration of the relevant matter presented, the Committee has determined that the services listed below are no longer suitable for procurement by the Federal Government under 41 U.S.C. 8501-8506 and 41 CFR 51-2.4. They have not been performed since Fort Ord, CA closed to all operations in 1994.

Regulatory Flexibility Act Certification

I certify that the following action will not have a significant impact on a substantial number of small entities. The major factors considered for this certification were:

1. The action will not result in additional reporting, recordkeeping or other compliance requirements for small entities.

2. The action may result in authorizing small entities to provide the services to the Government.

3. There are no known regulatory alternatives which would accomplish the objectives of the Javits-Wagner-O'Day Act (41 U.S.C. 8501-8506) in connection with the services deleted from the Procurement List.

End of Certification

Accordingly, the following services are deleted from the Procurement List:

Services

Service Type: Grounds Maintenance Service

Service Mandatory For: Golf Course, Fort Ord, CA; Ballfields, Fort Ord, CA; Hospital, Fort Ord, CA

Contracting Activity: Dept of the Army, W40M Northern Region Contract Office, Fort Belvoir, VA

All services at Fort Ord, CA are effectively deleted from the Procurement List. Fort Ord closed all operations in 1994.

Barry S. Lineback,
Director, Business Operations.

[FR Doc. 2015-16299 Filed 7-1-15; 8:45 am]

BILLING CODE 6353-01-P